DEPARTMENT OF COMMERCE

National Oceanic and Atmospheric Administration

RIN 0648-XB002

North Pacific Fishery Management Council; Public Meeting

AGENCY: National Marine Fisheries Service (NMFS), National Oceanic and Atmospheric Administration (NOAA), Commerce.

ACTION: Notice of a public meeting of the North Pacific Fishery Management Council's (NPFMC) Scallop Plan Team (SPT).

SUMMARY: The SPT will meet February 27, 2012 at the NPFMC conference room 205.

DATES: The meeting will be held on February 27, 2012, from 9 a.m. to 5 p.m.

ADDRESSES: North Pacific Fishery Management Council, 605 W. 4th Avenue, Suite 306, Anchorage, AK 99501-2252.

FOR FURTHER INFORMATION CONTACT: Diana Stram; NPFMC; telephone: (907) 271-2809.

SUPPLEMENTARY INFORMATION: The Plan Team will meet to discuss status of statewide scallop stocks and compile the annual Stock Assessment Evaluation report (SAFE). The Agenda is subject to change, and the latest version will be posted at http://www.alaskafisheries.noaa.gov/npfmc/

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: February 8, 2012.
Tracey L. Thompson,
Acting Director, Office of Sustainable Fisheries, National Marine Fisheries Service.

[FR Doc. 2012-3266 Filed 2-10-12; 8:45 am]

BILLING CODE 3510-22-P